DEPARTMENT OF COMMERCE

National Institute of Standards and Technology

Announcing a Meeting of the Information Security and Privacy Advisory Board

AGENCY: National Institute of Standards and Technology.

ACTION: Notice of meeting.

SUMMARY: Pursuant to the Federal Advisory Committee Act, 5 U.S.C. App., notice is hereby given that the Information Security and Privacy Advisory Board (ISPAB) will meet Tuesday, March 21, 2006, from 8:30 a.m. until 5 p.m., Wednesday, March 22, 2006, from 8:30 a.m. until 5 p.m. and Thursday, March 23, 2006 from 8:30 a.m. until 12 p.m.. All sessions will be open to the public. The Advisory Board was established by the Computer Security Act of 1987 (Pub. L. 100-235) and amended by the Federal Information Security Management Act of 2002 (Pub. L. 107-347) to advise the Secretary of Commerce and the Director of NIST on security and privacy issues pertaining to Federal computer systems. Details regarding the Board's activities are available at http://csrc.nist.gov/ispab/.

DATES: The meeting will be held on March 21, 2006 and March 22, 2006, from 8:30 a.m. until 5 p.m. and March 23, 2006, from 8:30 a.m. until 12 p.m.

ADDRESSES: The meeting will take place at the Doubletree Hotel and Executive Meeting Center, 1750 Rockville Pike, Rockville, Maryland.

Agenda

—Welcome and Overview.

—Privacy Act Framework Effort.

—Briefing on Suite B Cryptography.

—IDA Report on NIAP.

—Briefing on Department of Homeland Security National Common Body of Knowledge Initiative.

—Briefing on Software Assurance.

—Briefing on Department of Transportation “Real ID” Project.

—Status Reports on ISPAB Work Plan Items.

—Agenda Development for June 2006 ISPAB Meeting.

—Wrap-Up.

Note that agenda items may change without notice because of possible unexpected schedule conflicts of presenters.

Public Participation: The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the ISPAB Secretariat, Information Technology Laboratory, 100 Bureau Drive, Stop 8930, National Institute of Standards and Technology, Gaithersburg, MD 20899-8930. It would be appreciated if 25 copies of written material were submitted for distribution to the Board and attendees no later than March 17, 2006. Approximately 15 seats will be available for the public and media.

FOR FURTHER INFORMATION CONTACT: Ms. Pauline Bowen, Board Secretariat, Information Technology Laboratory, National Institute of Standards and Technology, 100 Bureau Drive, Stop 8930, Gaithersburg, MD 20899-8930, telephone: (301) 975-2938.

Dated: February 28, 2006.
William Jeffrey,
Director.

[FR Doc. E6-3520 Filed 3-10-06; 8:45 am]

BILLING CODE 3510-CN-P